DEPARTMENT OF HEALTH AND HUMAN SERVICES

Substance Abuse and Mental Health Services Administration

Notice of Funding Availability (NOFA) for a Grant for Networking and Certifying Suicide Prevention Hotlines

Announcement Type: Initial.

Funding Opportunity Number: SM 04-013.

Catalog of Federal Domestic Assistance (CFDA) Number: 93.243.

Due Date for Applications: July 21, 2004.

(Note: Letters from State Single Point of Contact (SPOC) in response to E.O. 12372 are due September 20, 2004.)

SUMMARY: The Substance Abuse and Mental Health Services Administration (SAMHSA), Center for Mental Health Services, announces the availability of FY 2004 grant funds for Networking and Certifying Suicide Prevention Hotlines. A synopsis of this funding opportunity, as well as many other Federal Government funding opportunities, is also available at the Internet site: http://www.grants.gov.

For complete instructions, potential applicants must obtain a copy of SAMHSA's standard Infrastructure Grants announcement (INF-04 PA (MOD)), and the PHS 5161-1 (Rev. 7/00) application form before preparing and submitting an application. The INF-04 PA (MOD) describes the general program design and provides instructions for applying for all SAMHSA Infrastructure Grants, including the Networking and Certifying Suicide Prevention Hotlines grant. Additional instructions and specific requirements for this funding opportunity are described below.

I. Funding Opportunity Description:

Authority: Section 520A of the Public Health Service Act, as amended and subject to the availability of funds.

Networking and Certifying Suicide Prevention Hotlines grant program is one of SAMHSA's Infrastructure Grants. In general, SAMHSA's Infrastructure Grants provide funds to increase the capacity of mental health and/or substance abuse service systems to support effective programs and services. This particular grant will provide funding to manage a toll-free national suicide prevention hotline network utilizing a life affirming number which routes calls from anywhere in the United States to a network of local crisis centers that can link callers to local emergency, mental health and social service resources. Grant funds must also be used to increase the number of crisis centers certified in suicide prevention.

The goals of the Networking and Certifying Suicide Prevention Hotlines grant program are to:

(1) Increase the number of crisis programs offering hotline services which are networked through a single, nationally accessible telephone number, utilizing telecommunications technology that links callers to their geographically nearest crisis center. It is expected that there will be at least one crisis program offering hotline services in all 50 states;

(2) Increase the number of crisis centers/hotlines certified in suicide prevention, e.g., having achieved defined standards in crisis worker training, service delivery, lethality assessments, organizational administration and program evaluation; and

(3) Evaluate, collect and analyze data regarding such issues as: As the use of the national suicide prevention number (including variations by State and area code); reasons for callers' use of the service; the nature and appropriateness of services provided; outcomes of the intervention (i.e., referrals made to emergency, mental health and social services resources); and the technical efficiency and effectiveness of the telephone service that is provided to callers. The evaluation must address the effectiveness of intervention services provided by crisis centers within the network as compared to crisis centers not in the network.

To achieve these goals, the applicant will be required to engage in the following activities:

(1) Network Centers: The applicant must demonstrate a capacity to network centers using telephone technology that permits national access to crisis centers or hotline services through a single toll-free number. This number will be selected by SAMHSA and maintained by the applicant. SAMHSA will choose a number that is easy to remember and is life affirming. The applicant will use this telephone number to establish and maintain the hotline network. At the end of the grant period, SAMHSA will determine whether if it will continue to retain the number or release it to the grantee. This determination will be made no later than six months prior to the end of the grant period. The technology utilized must permit calls to be directed immediately to a telephone suicide prevention worker who is within geographic proximity to the caller. The network must have the capacity to assist local crisis centers in identifying the telephone numbers of callers at imminent risk of suicide in need of emergency rescue who are unable or unwilling to provide a telephone number or location (e.g., caller ID, ANI, or call tracing). The applicant must describe in their proposed approach the type of call routing system to be used (i.e., carrier driven advanced business networking or a customized service hosted by a carrier but maintained through the applicant organization or through subcontracts). The applicant should clearly explain why they are proposing a particular approach. This discussion should include the following information: review literature that discusses determination of peak usage periods in order to determine the size of the network, average call drop rates and how the proposed approach seeks to reduce call drops, the cost benefits to the approach, and the specific features of the approach that will enhance the hotline network, and provide crucial data to the individual crisis centers and to SAMHSA.

In addition to establishing the telephone network, the applicant must clearly demonstrate the capability to provide training and technical assistance to the individual crisis centers on utilizing the network technology, provide assistance to obtain or upgrade equipment at the local crisis centers in order to participate in the network, provide incentives to the local crisis centers to maintain their certification, continue participation in the network and provide call outcome data to the applicant who will then aggregate data from all centers, analyze and report it to SAMHSA.

(2) Certification of Crisis Hotlines: The applicant must increase the number of crisis hotlines certified in suicide prevention. Crisis centers participating in the network should be certified in suicide prevention by the American Association of Suicidology (AAS), or if not certified by AAS, have met accreditation standards accepted by AAS as equivalent, such as the Joint Commission on the Accreditation of Healthcare Organizations (JCAHO), the Commission on the Accreditation of Rehabilitation Facilities (CARF), or Contact USA. The applicant should have experience with, or partner with, an organization that has experience with certification of crisis centers in suicide prevention.

(3) Resource Database Development: The applicant must develop a Resource Database that can be accessed via the Internet by all crisis centers, regardless of their participation in the network. This resource database will quickly provide the hotline center with local information on emergency, mental health, and social service resources within 50 miles of the caller's geographical area. The applicant should either have, or partner with, an organization that has a documented history of developing such a comprehensive resource database. The applicant may also propose to use other currently existing databases.

(4) Program Evaluation: The applicant must conduct an evaluation of the grant project that accurately documents the population served by the toll-free crisis line service, including variations in usage by State and area code; the reason(s) for callers' use of the service; the nature and appropriateness of the service that was provided; the outcome(s) (i.e., referrals made to emergency, mental health, and social service resources); and the technical efficiency and effectiveness of the telephone service that is provided to callers using the toll-free crisis service. The applicant should either have, or partner with, another organization that has a documented history of successful evaluation efforts.

(5) Sustainability: The applicant must propose a sustainability plan that ensures that the program can be self-supporting when Federal funding ends. The applicant must demonstrate experience in sustaining similar initiatives through blended public and private funding.

(6) Financial Management: The selected applicant must demonstrate existence of an adequate financial management system (reference 45 CFR part 74, subpart C), and be capable of administering Federal awards. Specifically, the applicant must maintain and follow adequate policies and procedures that safeguard assets and determine cost allowability, maintain an accounting system capable of segregating grant income and expenditures, maintain effective accountability and control over grant funds, maintain accounting records supported by source documentation, maintain an adequate procurement system (including ability to administer subcontracts, if applicable), and maintain property control.

The activities described above fall within the following categories of allowable activities listed in the INF-04 PA (MOD): provider/network development, development of interagency coordination mechanisms, data infrastructure development, and evaluation. Activity in the other categories of allowable activity defined in the INF-04 PA (MOD) are allowed only to the extent that the applicant can demonstrate that they are critical to the effective implementation of the activities that are required for this grant.

Background

There are currently estimated to be over 500 operating “crisis centers” in the United States, exclusive of military and employee assistance programs. Some are specialty centers focusing on crises related to domestic violence or rape. Others see their mission as responding to the needs of all types of personal and family crises. The primary objective of the crisis center is to diffuse the immediate crisis, ensure the caller's safety, and assist the caller to take the next immediate steps toward resolving the problem. In any type of serious personal crisis, the potential for suicidal thoughts and behaviors exist. In published surveys, 10 percent of calls to all types of crisis programs involve suicidality. Hotline crisis services represent one of many possible effective interventions for suicidality.

“Hotline” crisis services may be directly associated with a single crisis center, which also offers face-to-face client services, or be a “hotline-only” service in which there are no associated face-to-face services. Such “hotline-only” centers may be hundreds or thousands of miles from the location of the caller and often maintain databases of crisis, mental health, and social services local to the caller to which that person can be referred if indicated. “Suicide prevention hotlines” are staffed with suicide prevention workers who establish and maintain contact with the individual while identifying and clarifying the problem, evaluating the potential for suicide, assessing the individual's strengths and resources, and mobilizing available resources including paramedic or police intervention and emergency psychiatric care as needed.

“Suicide prevention hotlines” may be stand-alone “hotline only” services, may operate out of community agencies, or be part of organized health and mental health care delivery systems. While suicide prevention hotlines have been in existence for more than forty years, access to such services in many areas has been either highly variable or non-existent. The multiplicity of phone numbers for local hotlines made national, state or regional public education campaigns impossible. This led to support for a single, toll free, nationally accessible telephone number for suicide prevention, utilizing telecommunications technology that links callers to their geographically nearest crisis center.

Though not all crisis centers have widely publicized “hotline” services, it is generally believed that most, if not all, centers field crisis calls from suicidal individuals. While face-to-face assessment and counseling in the work of crisis centers are to a large degree done by health professionals, much of the important work of telephone crisis intervention is done by trained volunteers. The use of trained volunteers in the role of telephone crisis workers has existed for many years and spawned the development of standards to guide them in their work. Workers responding to suicidal callers should be trained in the use of clinical intervention techniques. The certification of crisis centers in suicide prevention is a crucial component of this grant. Many crisis centers do not operate out of organized health delivery systems, such as hospitals or community mental health centers. State laws and regulations governing the use of terms such as “crisis center”, “crisis line”, or “hotline” either do not exist or vary widely. The majority of crisis center workers are volunteers who do not fall under any state licensing laws for mental health professionals. Thus, voluntary certification for meeting nationally recognized suicide prevention standards is virtually the only form of external, task specific quality control that exists for many crisis centers. The success of the network is ultimately tied to the adherence of participating crisis centers to nationally recognized standards for suicide prevention.

Definitions

Crisis center: A program that establishes immediate telephone communication between people who are emotionally distressed and individuals who have been trained to provide telephone assistance to diffuse the crisis, ensure the caller's safety, and assist the caller to take next steps toward resolving the problem.

Hotline crisis services: A telephone service directly associated with a single crisis center.

Suicide prevention hotline: A program that provides telephone crisis intervention services to individuals expressing suicidal thoughts or behavior, or to others calling on behalf of such persons in crisis, with the objective of exploring alternatives to self-harm.

II. Award Information

1. Estimated Funding Available/Number of Awards

It is expected that up to $2.2 million will be available to fund one award in FY 2004. It is expected that only one Category 2—Comprehensive Infrastructure Grant, as defined in the INF-04 PA (MOD), will be awarded. The maximum allowable award is $2.2 million in total costs (direct and indirect) per year for three years. Proposed budgets cannot exceed the allowable amount in any year of the proposed project. The actual amount available for the award may vary, depending on unanticipated program requirements and the quality of the applications received. Annual continuations will depend on the availability of funds, progress in meeting program goals and objectives, and timely submission of required data and reports.

2. Funding Instrument

Cooperative agreement.

Role of the Grantee:

• Comply with the terms of the award and all applicable grant rules and regulations, and satisfactorily perform activities to achieve the goals described below;

• Seek SAMHSA approval for key positions to be filled. The key positions include: project director, networking/telephony director, certification director, evaluation director, database director;

• Seek SAMHSA approval of proposed approach to networking of hotlines prior to implementing proposed design and accept SAMHSA-recommended modifications to approach;

• Consult with and accept guidance from CMHS staff on performance of activities to achieve goals described below;

• Respond to requests for information from CMHS;

• Agree to provide SAMHSA with data required for the Government Performance and Results Act (GPRA);

• Manage the toll free telephone number selected by SAMHSA through the end of the grant period and relinquish control of the telephone number to SAMHSA or to another organization, if required;

• Produce required SAMHSA reports.

Role of SAMHSA staff:

• Maintain overall responsibility for monitoring the conduct and progress of the suicide prevention hotline networking and certification program;

• Approve proposed key positions/personnel

• Review proposed approach and request modifications to approach and/or approve the approach;

• Make recommendations regarding continued funding;

• Provide guidance and technical assistance on project design;

• Approve all proposed subcontracts;

• Review quarterly reports and conduct a site visit, if warranted;

• Review and approve the evaluation plan, including the sites selected to participate in the evaluation;

• Approve data collection plans and institute policies regarding data collection;

• Recommend consultants for assisting with the resource database, evaluation, and data collection, if needed; and

• Provide technical assistance, as needed, on sustainability and to assist in disseminating the resource database to non-networked crisis centers.

• Provide a toll free number that is easy to remember, life affirming and test marketed.

III. Eligibility Information

1. Eligible Applicants

Eligible applicants are domestic public and private nonprofit entities. For example, State, local or tribal governments; public or private universities and colleges; community- and faith-based organizations; and tribal organizations may apply. The statutory authority for this program precludes grants to for-profit organizations.

2. Cost Sharing or Matching

Is not required.

3. Other

Applicants must also meet certain application formatting and submission requirements, or the application will be screened out and will not be reviewed. These requirements are described in Section IV-2 below, as well as in the INF-04 PA (MOD).

IV. Application and Submission Information

1. Address To Request Application Package

Complete application kits may be obtained from the National Mental Health Information Center at 1-800-789-2647. When requesting an application kit for this program, the applicant must specify the funding opportunity title (Networking and Certifying Suicide Prevention Hotlines) and the funding opportunity number (SM 04-013) for which detailed information is desired. All information necessary to apply, including where to submit applications and application deadline instructions, is included in the application kit. The PHS 5161-1 application form is also available electronically via SAMHSA's World Wide Web home page: http://www.samhsa.gov (Click on “Grant Opportunities”) and the INF-04 PA (MOD) is available electronically at http://www.samhsa.gov/grants/2004/standard/Infrastructure/index.asp.

When submitting an application, be sure to type “SM 04-013 Networking and Certifying Suicide Prevention Hotlines” in Item Number 10 on the face page of the application form. Also, SAMHSA applicants are required to provide a DUNS Number on the face page of the application. To obtain a DUNS Number, access the Dun and Bradstreet Web site at http://www.dunandbradstreet.com or call 1-866-705-5711.

2. Content and Form of Application Submission

Appendices 3 and 5, referenced in the INF-04 PA (MOD) in Section IV-2, are not required and should not be included in the application. Additional information including required documents, required application components, and application formatting requirements is available in the INF-04 PA (MOD) in Section IV-2.

Checklist for Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review.

• Use the PHS 5161-1 application.

• Applications must be received by the application deadline. Applications received after this date must have a proof of mailing date from the carrier dated at least 1 week prior to the due date. Private metered postmarks are not acceptable as proof of timely mailing. Applications not received by the application deadline or not postmarked at least 1 week prior to the application deadline will not be reviewed.

• Information provided must be sufficient for review.

• Text must be legible.

—Type size in the Project Narrative cannot exceed an average of 15 characters per inch, as measured on the physical page. (Type size in charts, tables, graphs, and footnotes will not be considered in determining compliance.)

—Text in the Project Narrative cannot exceed 6 lines per vertical inch.

• Paper must be white paper and 8.5 inches by 11.0 inches in size.

• To ensure equity among applications, the amount of space allowed for the Project Narrative cannot be exceeded.

—Applications would meet this requirement by using all margins (left, right, top, bottom) of at least one inch each, and adhering to the page limit for the Project Narrative stated in the specific funding announcement.

—Should an application not conform to these margin or page limits, SAMHSA will use the following method to determine compliance: The total area of the Project Narrative (excluding margins, but including charts, tables, graphs and footnotes) cannot exceed 58.5 square inches multiplied by the page limit. This number represents the full page less margins, multiplied by the total number of allowed pages.

—Space will be measured on the physical page. Space left blank within the Project Narrative (excluding margins) is considered part of the Project Narrative, in determining compliance.

• The page limit for Appendices stated in the specific funding announcement cannot be exceeded.

To facilitate review of your application, follow these additional guidelines. Failure to adhere to the following guidelines will not, in itself, result in your application being screened out and returned without review. However, the information provided in your application must be sufficient for review. Following these guidelines will help ensure your application is complete, and will help reviewers to consider your application.

• The 10 application components required for SAMHSA applications should be included. These are:

—Face Page (Standard Form 424, which is in PHS 5161-1)

—Abstract

—Table of Contents

—Budget Form (Standard Form 424A, which is in PHS 5161-1)

—Project Narrative and Supporting Documentation

—Appendices

—Assurances (Standard Form 424B, which is in PHS 5161-1)

—Certifications (a form in PHS 5161-1)

—Disclosure of Lobbying Activities (Standard Form LLL, which is in PHS 5161-1)

—Checklist (a form in PHS 5161-1)

• Applications should comply with the following requirements:

—Provisions relating to confidentiality, participant protection and the protection of human subjects, as indicated in the specific funding announcement.

—Budgetary limitations as indicated in Sections I, II, and IV-5 of the specific funding announcement.

—Documentation of nonprofit status as required in the PHS 5161-1.

• Pages should be typed single-spaced with one column per page.

• Pages should not have printing on both sides.

• Please use black ink, and number pages consecutively from beginning to end so that information can be located easily during review of the application. The cover page should be page 1, the abstract page should be page 2, and the table of contents page should be page 3. Appendices should be labeled and separated from the Project Narrative and budget Section, and the pages should be numbered to continue the sequence

• Send the original application and two copies to the mailing address in the funding announcement. Please do not use staples, paper clips, and fasteners. Nothing should be attached, stapled, folded, or pasted. Do not use heavy or lightweight paper, or any material that cannot be copied using automatic copying machines. Odd-sized and oversized attachments such as posters will not be copied or sent to reviewers. Do not include videotapes, audiotapes, or CD-ROMs.

3. Submission Dates and Times

Applications must be received by July 21, 2004. You will be notified by postal mail that your application has been received. Additional submission information is available in the INF-04 PA (MOD) in Section IV-3.

4. Intergovernmental Review

Applicants for this funding opportunity must comply with Executive Order 12372 (E.O. 12372). E.O. 12372, as implemented through Department of Health and Human Services (DHHS) regulation at 45 CFR part 100, sets up a system for State and local review of applications for Federal financial assistance. Instructions for complying with E.O. 12372 are provided in the INF-04 PA (MOD) in Section IV-4. A current listing of State Single Points of Contact (SPOCs) is included in the application kit and is available at http://www.whitehouse.gov/omb/grants/spoc.html.

5. Funding Restrictions

Funds for the Networking and Certification of Suicide Prevention Hotlines grant may not be used for implementation pilots, as stated in the INF-04 PA (MOD). Additional information concerning funding restrictions is available in the INF-04 PA (MOD) in Section IV-5.

V. Application Review Information

1. Evaluation Criteria

Applications will be reviewed against the Evaluation Criteria and requirements for the Project Narrative specified in the INF-04 PA (MOD). The following information describes exceptions or limitations to the INF-04 PA (MOD) and provides special requirements that pertain only to the grant for Networking and Certifying Suicide Prevention Hotlines.

Note that implementation pilots referenced in the INF-04 PA (MOD) may not be included in this grant program.

Applicants must discuss the following requirements in their applications, in addition to the requirements specified in the INF-04 PA (MOD):

1.1 In “Section A: Statement of Need”

a. The target population for this program is the total potential number of suicidal persons who may seek help through hotline services in the United States. The applicant should address the needs of this target population in Section A of the Project Narrative.

b. Applicants may disregard the 4th bullet in Section A that requests applicants to show that the identified need for the proposed project is consistent with the State's priorities. This requirement does not apply because the scope of this grant program is nationwide.

1.2 In “Section B: Proposed Approach”

Applicants must address the goals and activities of the grant for Networking and Certifying Suicide Prevention Hotlines identified in Section I of this NOFA when responding to the bullets in Section B of the INF-04 PA (MOD).

1.3 In “Section D: Evaluation and Data”

All SAMHSA grantees are required to collect and report certain data, so that SAMHSA can meet its obligations under the Government Performance and Results Act (GPRA). The Networking and Certifying Suicide Prevention Hotlines grantee will be required to report on the increase in the number of hotline centers included in the network and the increase in the number certified in suicide prevention. Applicants must document their ability to collect and report on these measures in “Section E: Evaluation and Data” of their applications

2. Review and Selection Process

Information about the review and selection process is available in the INF-04 PA (MOD) in Section V-2.

VI. Award Administration Information

Award administration information, including award notices, administrative and national policy requirements, and reporting requirements are available in the INF-04 PA (MOD) in Section VI. SAMHSA's standard terms and conditions are available at http://www.samhsa.gov/grants/2004/useful_info.asp. Note that the Networking and Certifying Suicide Prevention Hotlines grantee will be required to provide quarterly progress/financial reports in addition to annual progress/financial reports. The quarterly reporting format, including crisis center call data, is under development by SAMHSA.

VII. Agency Contact for Additional Information

For questions about program issues, contact: Brenda Bruun, SAMHSA/CMHS, Division of Prevention, Traumatic Stress and Special Programs, 5600 Fishers Lane, Room 17C-26, Rockville, MD 20857; 301-443-4669; e-mail: bbruun@samhsa.gov. For questions on grants management issues, contact: Gwendolyn Simpson, SAMHSA/Division of Grants Management, 5600 Fishers Lane, Room 13-103, Rockville, MD 20857; 301-443-4456; e-mail: gsimpson@samhsa.gov.

Dated: May 20, 2004.
Daryl Kade,
Director, Office of Policy, Planning and Budget, Substance Abuse and Mental Health Services Administration.

[FR Doc. 04-11940 Filed 5-25-04; 8:45 am]

BILLING CODE 4162-20-P